DEPARTMENT OF COMMERCE

Bureau of Industry and Security

15 CFR Part 744

[Docket No. 191105-0076]

RIN 0694-AH85

Addition of Entities to the Entity List, Revision of an Entry on the Entity List, and Removal of Entities From the Entity List

AGENCY: Bureau of Industry and Security, Commerce.

ACTION: Final rule.

SUMMARY: In this rule, the Bureau of Industry and Security (BIS) amends the Export Administration Regulations (EAR) by adding twenty-two entities, under a total of thirty-two entries, to the Entity List. These twenty-two entities have been determined by the U.S. Government to be acting contrary to the national security or foreign policy interests of the United States. These entities will be listed on the Entity List under the destinations of Bahrain, France, Iran, Jordan, Lebanon, Oman, Pakistan, Saudi Arabia, Senegal, Syria, Turkey, the United Arab Emirates (U.A.E.) and the United Kingdom (U.K.). This rule also modifies one existing entry on the Entity List under the destination of Pakistan. Finally, this rule removes three entities from the Entity List; one under the destination of Pakistan, one under the destination of Singapore and one under the destination of the U.A.E. The removals are made in connection with requests for removal that BIS received pursuant to sections of the EAR used for requesting removal or modification of an Entity List entry, and the subsequent review by the End-User Review Committee of the information provided in the requests.

DATES: This rule is effective November 13, 2019.

FOR FURTHER INFORMATION CONTACT: Chair, End-User Review Committee, Office of the Assistant Secretary, Export Administration, Bureau of Industry and Security, Department of Commerce, Phone: (202) 482-5991, Fax: (202) 482-3911, Email: ERC@bis.doc.gov.

SUPPLEMENTARY INFORMATION:

Background

The Entity List (Supplement No. 4 to part 744 of the Export Administration Regulations (EAR)) identifies entities for which there is reasonable cause to believe, based on specific and articulable facts, that the entities have been involved, are involved, or pose a significant risk of being or becoming involved in activities contrary to the national security or foreign policy interests of the United States. The EAR (15 CFR parts 730-774) impose additional license requirements on, and limit the availability of most license exceptions for, exports, reexports, and transfers (in-country) to listed entities. The license review policy for each listed entity is identified in the “License review policy” column on the Entity List, and the impact on the availability of license exceptions is described in the relevant Federal Register notice adding entities to the Entity List. BIS places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and all decisions to remove or modify an entry by unanimous vote.

ERC Entity List Decisions

Additions to the Entity List

Under § 744.11(b) (Criteria for revising the Entity List) of the EAR, entities for which there is reasonable cause to believe, based on specific and articulable facts, that the entities have been involved, are involved, or pose a significant risk of being or becoming involved in activities that are contrary to the national security or foreign policy interests of the United States, and those acting on behalf of such entities, may be added to the Entity List. Paragraphs (b)(1) through (5) of § 744.11 provide an illustrative list of activities that could be considered contrary to the national security or foreign policy interests of the United States.

This rule implements the decision of the ERC to add twenty-two entities, under a total of thirty-two entries (i.e., some of the entities are identified in more than one destination), to the Entity List. The twenty-two entities being added are located in Bahrain, France, Iran, Jordan, Lebanon, Oman, Pakistan, Saudi Arabia, Senegal, Syria, Turkey, the U.A.E. and the U.K. The ERC made the decision to add each of the twenty-two entities described below under the standard set forth in § 744.11(b) of the EAR.

The ERC determined to add Dart Aviation to the Entity List under the destinations of France, Iran, Senegal and the U.K., because this entity has transshipped U.S.-origin items to sanctioned destinations and entities without the required authorizations.

The ERC determined to add Safe Technical Supply Co., LLC to the Entity List under the destinations of Oman, Saudi Arabia and the UAE, as this entity has been involved in the proliferation of unsafeguarded nuclear activities.

The ERC determined to add Marzoghi, Ltd. and Mohammed Marzoghi to the Entity List under the destination of Bahrain; to also add Mohammed Marzoghi under the destination of the U.A.E. and to add Abdullah Poor Nagar, Al Ras Gate General Trading, Bestway Line FZCO, and Khaled Al Taher under the destination of the U.A.E. as well; and to add Eslem Global Pazarlama Sanayi ve Ticaret and Mehmet Yari under the destination of Turkey. The ERC determined that these eight entities knowingly divert U.S. origin items to Iran without authorization and are therefore unreliable recipients of U.S.-origin goods and technology.

The ERC determined to add to the Entity List EDO-ELEMED, Elemed Liban, Rahal Corporation for Technology and Medical Supplies, and Rahal Establishment under the destinations of Lebanon and Syria, and to add The Jordanian Lebanese Company for Laboratory Instruments S.A.L. under the destination of Jordan. The ERC determined that these five entities have been involved in providing material support to chemical and biological weapons activity in Syria.

The ERC determined to add Engineering Equipment (Private) Limited, Fabcon International, Muhandis Corporation, Paktech Engineers, and Rohtas Enterprise to the Entity List under the destination of Pakistan. The ERC determined these five entities have been involved in supporting unsafeguarded nuclear activities.

Finally, the ERC determined to add Techlink Communications and Techlinks, which were previously erroneously identified as aliases for Technology Links Pvt. Ltd., to the Entity List in individual entries under the destination of Pakistan. For more information on the original appearance of these entities as aliases on the Entity List, see 83 FR 44824 (September 4, 2018). As discussed further below, Technology Links Pvt. Ltd. is being removed from the Entity List pursuant to this rule.

Pursuant to § 744.11(b), the ERC determined that the conduct of the above-described twenty-two entities raises sufficient concerns that prior review of exports, reexports, or transfers (in-country) of all items subject to the EAR involving these entities, and the possible imposition of license conditions or license denials on shipments to these entities, will enhance BIS's ability to prevent violations of the EAR. For the twenty-two entities added to the Entity List in this final rule, BIS imposes a license requirement for all items subject to the EAR and a license review policy of a presumption of denial. In addition, no license exceptions are available for exports, reexports, or transfers (in-country) to the persons being added to the Entity List in this rule. The acronym “a.k.a.” (also known as) is used in entries on the Entity List to identify aliases, thereby assisting exporters, reexporters, and transferors in identifying entities on the Entity List.

For the reasons described above, this final rule adds the following twenty-two entities, under a total of thirty-two entries, to the Entity List:

Bahrain

• Marzoghi, Ltd.; and

• Mohammed Marzoghi.

France

• Dart Aviation, including four aliases (Dart Aviation Technics, Dart Aviation Marlbrine S.A.R.L., MBP Trading Ltd., and Sari IEAS).

Iran

• Dart Aviation, including four aliases (Dart Aviation Technics, Dart Aviation Marlbrine S.A.R.L., MBP Trading Ltd., and Sari IEAS).

Jordan

• The Jordanian Lebanese Company for Laboratory Instruments S.A.L.

Lebanon

• EDO-ELEMED, including two aliases (EDO ELEMED and EDO/ELEMED);

• Elemed Liban;

• Rahal Corporation for Technology and Medical Supplies; and

• Rahal Establishment.

Oman

• Safe Technical Supply Co., LLC, including three aliases (Safe Technical Equipment Services LLC; Safe Technical; and SafeTech).

Pakistan

• Engineering Equipment (Private) Limited;

• Fabcon International;

• Muhandis Corporation;

• Paktech Engineers;

• Rohtas Enterprises;

• Techlink Communications; and

• Techlinks.

Saudi Arabia

• Safe Technical Supply Co., LLC, including three aliases (Safe Technical Equipment Services LLC; Safe Technical; and SafeTech).

Senegal

• Dart Aviation, including four aliases (Dart Aviation Technics, Dart Aviation Marlbrine S.A.R.L., MBP Trading Ltd., and SARL IEAS).

Syria

• EDO-ELEMED, including two aliases (EDO ELEMED and EDO/ELEMED);

• Elemed Liban;

• Rahal Corporation for Technology and Medical Supplies; and

• Rahal Establishment.

Turkey

• Eslem Global Pazarlama Sanayi ve Ticaret; and

• Mehmet Yari.

United Arab Emirates

• Abdullah Poor Nagar;

• Al Ras Gate General Trading;

• Bestway Line FZCO;

• Khaled Al Taher;

• Mohammed Marzoghi; and

• Safe Technical Supply Co., LLC, including three aliases (Safe Technical Equipment Services LLC; Safe Technical; and SafeTech).

United Kingdom

• Dart Aviation, including four aliases (Dart Aviation Technics, Dart Aviation Marlbrine S.A.R.L., MBP Trading Ltd., and Sari IEAS).

Modification to an Entry on the Entity List

This final rule implements the decision of the ERC to modify one existing entry on the Entity List, under the destination of Pakistan. Specifically, this rule implements the decision of the ERC to modify the existing entry for Mushko Electronics Pvt. Ltd., which was added to the Entity List under the destination of Pakistan on March 22, 2018 (83 FR 12479). BIS is modifying the existing entry by changing the License Requirement from “All Items Subject to the EAR (See § 744.11 of the EAR)” to “Items on the Commerce Control List (CCL) only.” In addition, BIS is modifying an existing address for Mushko Electronics Pt. Ltd. to correct the spelling of “Boulevad” to “Boulevard.”

Removals From the Entity List

This final rule implements the decision of the ERC to remove from the Entity List the following entities: Technology Links Pvt. Ltd., an entity located in Pakistan; All Industrial Manufacturing (AIM) Pte Ltd., an entity located in Singapore; and Eurotech DMCC, an entity located in the U.A.E. Technology Links Pvt. Ltd. was added to the Entity list on September 4, 2018 (83 FR 44824); All Industrial Manufacturing (AIM) Pte Ltd. was added to the Entity List on September 26, 2018 (83 FR 48534); and Eurotech DMCC was added to the Entity List on January 26, 2018 (83 FR 3580). The ERC decided to remove these three entities based upon their requests for removal and the information that BIS received from them as part of their removal requests pursuant to § 744.16 of the EAR, and the subsequent review that the ERC conducted in accordance with procedures described in Supplement No. 5 to part 744.

For the reasons described above, this final rule implements the decision to remove the following three entities, under the destinations of Pakistan, Singapore and the U.A.E., respectively, from the Entity List:

Pakistan

• Technology Links Pvt. Ltd.

Singapore

• All Industrial Manufacturing (AIM) Pte Ltd.

United Arab Emirates

• Eurotech DMCC.

Savings Clause

Shipments of items removed from eligibility for a License Exception or export or reexport without a license (NLR) as a result of this regulatory action that were en route aboard a carrier to a port of export or reexport, on November 13, 2019, pursuant to actual orders for export or reexport to a foreign destination, may proceed to that destination under the previous eligibility for a License Exception or export or reexport without a license (NLR).

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule. As set forth in Section 1768 of ECRA, all delegations, rules, regulations, orders, determinations, licenses, or other forms of administrative action that have been made, issued, conducted, or allowed to become effective under the Export Administration Act of 1979 (previously, 50 U.S.C. 4601 et seq.) (as in effect prior to August 13, 2018 and as continued in effect pursuant to the International Emergency Economic Powers Act (50 U.S.C. 1701 et seq.)) or the Export Administration Regulations, and are in effect as of August 13, 2018, shall continue in effect according to their terms until modified, superseded, set aside, or revoked under the authority of ECRA.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866. This rule is not an Executive Order 13771 regulatory action because this rule is not significant under Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and carries a burden estimate of 42.5 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. Pursuant to section 1762 of the Export Control Reform Act of 2018 (50 U.S.C. 4801-4852), which was included in the John S. McCain National Defense Authorization Act for Fiscal Year 2019, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 19, 2018, 83 FR 47799 (September 20, 2018); Notice of November 8, 2018, 83 FR 56253 (November 9, 2018).

2. Supplement No. 4 to part 744 is amended:

a. Under BAHRAIN by adding in alphabetical order two Bahraini entities “Marzoghi, Ltd.” and “Mohammed Marzoghi”;

b. Under FRANCE by adding in alphabetical order one French entity “Dart Aviation”;

c. Under IRAN by adding in alphabetical order one Iranian entity “Dart Aviation”;

d. Under JORDAN by adding in alphabetical order one Jordanian entity “The Jordanian Lebanese Company for Laboratory Instruments S.A.L”;

e. Under LEBANON by adding in alphabetical order four Lebanese entities “EDO-ELEMED,” “Elemed Liban,” “Rahal Corporation for Technology and Medical Supplies,” and “Rahal Establishment”;

f. Under OMAN by adding in alphabetical order one Omani entity “Safe Technical Supply Co., LLC”;

g. Under PAKISTAN:

i. By adding in alphabetical order three Pakistani entities “Engineering Equipment (Private) Limited,” “Fabcon International,” and “Muhandis Corporation”;

ii. By revising one Pakistani entity “Mushko Electronics Pvt. Ltd.”;

iii. By adding in alphabetical order four Pakistani entities “Paktech Engineers,” “Rohtas Enterprises,” “Techlink Communications,” and “Techlinks”; and

iv. By removing one Pakistani entity “Technology Links Pvt. Ltd.”;

h. Under SAUDI ARABIA by adding in alphabetical order one Saudi Arabian entity “Safe Technical Supply Co., LLC”;

i. By adding in alphabetical order a heading for SENEGAL and one Senegalese entity “Dart Aviation”;

j. Under SINGAPORE by removing one entity “All Industrial Manufacturing (AIM) Pte Ltd.”;

k. Under SYRIA by adding in alphabetical order four Syrian entities “EDO-ELEMED,” “Elemed Liban,” “Rahal Corporation for Technology and Medical Supplies,” and “Rahal Establishment”;

l. Under TURKEY by adding in alphabetical order two Turkish entities “Eslem Global Pazarlama Sanayi ve Ticaret” and “Mehmet Yari”;

m. Under UNITED ARAB EMIRATES:

i. By adding in alphabetical order three Emirati entities “Abdullah Poor Nagar,” “Al Ras Gate General Trading,” and “Bestway Line FZCO”;

ii. By removing one Emirati entity “Eurotech DMCC”; and

iii. By adding in alphabetical order three Emirati entities “Khaled Al Taher,” “Mohammed Marzoghi,” and “Safe Technical Supply Co., LLC”; and

n. Under UNITED KINGDOM by adding in alphabetical order one British entity “Dart Aviation”.

The additions and revision read as follows:

Supplement No. 4 to Part 744—Entity List

* * * * *

Country | Entity | License requirement | License review policy | Federal Register citation
* * * * * * *
BAHRAIN | * * * * * *
| Marzoghi Ltd., 12-20 Albaba Building 119 Road 1507, Manama, Bahrain. | For all items subject to the EAR. (See § 744.11 of the EAR). | Presumption of denial | 84 FR [INSERT FR PAGE NUMBER], November 13, 2019.
| Mohammed Marzoghi, 12-20 Albaba Building 119 Road 1507, Manama, Bahrain. (See also addresses in the United Arab (Emirates). | For all items subject to the EAR. (See § 744.11 of the EAR). | Presumption of denial | 84 FR [INSERT FR PAGE NUMBER], November 13, 2019.
* * * * * * *
FRANCE | * * * * * *
| Dart Aviation, a.k.a., the following four aliases: —Dart Aviation Technics; —Dart Aviation Marlbrine S.A.R.L.; —MBP Trading Ltd.; and —Sari IEAS. 3, rue de la Janaie—ZA Yves Burgot 35400 Saint Malo I&V, France. (See also addresses under Iran, Senegal and the United Kingdom). | For all items subject to the EAR. (See § 744.11 of the EAR). | Presumption of denial | 84 FR [INSERT FR PAGE NUMBER], November 13, 2019.
* * * * * * *
IRAN | * * * * * *
| Dart Aviation, a.k.a., the following four aliases: —Dart Aviation Technics; —Dart Aviation Marlbrine S.A.R.L.; —MBP Trading Ltd.; and —Sari IEAS. East Unit, 1st Floor—Building No. 1 Solhparvar Dead—Bimeh 5th Karaj Makhsous Ave. Tehran, Iran. (See also addresses under France, Senegal and the United Kingdom). | For all items subject to the EAR. (See § 744.11 of the EAR). | Presumption of denial | 84 FR [INSERT FR PAGE NUMBER], November 13, 2019.
* * * * * * *
JORDAN | * * * * * *
| The Jordanian Lebanese Company for Laboratory Instruments S.A.L., Shmesani, Bldg. No 16 ground floor, Amman, 63 Jordan. | For all items subject to the EAR. (See § 744.11 of the EAR). | Presumption of denial | 84 FR [INSERT FR PAGE NUMBER], November 13, 2019.
* * * * * * *
LEBANON | * * * * * *
| EDO-ELEMED, A.K.A., the following two aliases: —EDO ELEMED, a.k.a., the following two aliases: —EDO ELEMED; and —EDO ELEMED St. Nicolas Street, Bldg. #5—Ba'bda, Beirut, Lebanon; and Ashrafiyeh, St. Louis Street, Abou Jawdeh Bldg. 2 Floor, Beirut, Lebanon. (See also addresses under Syria) | For all items subject to the EAR. (See § 744.11 of the EAR). | Presumption of denial | 84 FR [INSERT FR PAGE NUMBER], November 13, 2019.
| * * * * * *
| Elemed Liban, St. Nicolas Street, Bldg. #5—Ba'abda, Beirut, Lebanon. (See also addresses under Syria) | For all items subject to the EAR. (See § 744.11 of the EAR). | Presumption of denial | 84 FR [INSERT FR PAGE NUMBER], November 13, 2019.
| * * * * * *
| Rahal Corporation for Technology and Medical Supplies, St. Nicolas Street, Bldg. #5—Ba'abda, Beirut, Lebanon. (See also addresses under Syria) | For all items subject to the EAR. (See § 744.11 of the EAR). | Presumption of denial | 84 FR [INSERT FR PAGE NUMBER], November 13, 2019.
| Rahal Establishment, St. Nicolas Street, Bldg. #5—Ba'abda, Beirut, Lebanon. (See also addresses under Syria) | For all items subject to the EAR. (See § 744.11 of the EAR). | Presumption of denial | 84 FR [INSERT FR PAGE NUMBER], November 13, 2019.
* * * * * * *
OMAN | * * * * * *
| Safe Technical Supply Co., LLC, a.k.a., the following three aliases: —Safe Technical; and —Safe Tech. Way # 2926, Al Habib Building #65, Rex Road RUWI, Sultanate of Oman; and P.O. Box: 926, PC 114, Jibroo, Oman. (See also addresses under Saudi Arabia and the United Arab Emirates). | For all items subject to the EAR. (See § 744.11 of the EAR). | Presumption of denial | 84 FR [INSERT FR PAGE NUMBER], November 13, 2019.
PAKISTAN | * * * * * *
| Engineering Equipment (Private) Limited, 26-D Kashmir Plaza, Jinnah Avenue, Islamabad, Pakistan. | For all items subject to the EAR. (See § 744.11 of the EAR). | Presumption of denial | 84 FR [INSERT FR PAGE NUMBER], November 13, 2019.
| * * * * * *
| Fabcon International, 359 G-4, Johar Town, Lahore, Pakistan; and 227 Sunder Industrial Estate, Sunder-Raiwind Road, Lahore, Pakistan and MZ-9 Central Plaza, Barkat Market, Lahore, Pakistan and MZ-9, Central Plaza Barket Market, Pakistan. | For all items subject to the EAR. (See § 744.11 of the EAR). | Presumption of denial | 84 FR [INSERT FR PAGE NUMBER], November 13, 2019.
| * * * * * *
| Muhandis Corporation, No. 283, Kahuta Triangle Industrial Area, Islamabad 44000 Pakistan. | For all items subject to the EAR. (See § 744.11 of the EAR). | Presumption of denial | 84 FR [INSERT FR PAGE NUMBER], November 13, 2019.
| Mushko Electronics Pvt. Ltd., Safa House Address, Abdullah Haroon Road, Karachi Pakistan; and Victoria Chambers, Abdullah Haroon Road, Saddar Town, Karachi, Pakistan; and Office No. 3&8, First Floor, Center Point Plaza, Main Boulevard, Gullberg-III, Lahore, Pakistan; 26-D Kashmir Plaza East, Jinnah Avenue, Blue Area, Islamabad, Pakistan; and 68-W, Sama Plaza, Blue Area Sector G-7, Islamabad, Pakistan. | For all items on the Commerce Control List (CCL) only. | Presumption of denial | 84 FR [INSERT FR PAGE NUMBER], November 13, 2019.
| * * * * * *
| Paktech Engineers, Suite 8-A-2 2nd Floor Islam Plaza G-9 Merkaz, Islamabad, Pakistan 44000. | For all items subject to the EAR. (See § 744.11 of the EAR). | Presumption of denial | 84 FR [INSERT FR PAGE NUMBER], November 13, 2019.
| * * * * * *
| Rohtas Enterprises, Flat No. 8, Third Floor, Green Valley Apartments, Behind Faiz ul ]slam Complex, Faizabad-Rawalpindi, Pakistan. | For all items subject to the EAR. (See § 744.11 of the EAR). | Presumption of denial | 84 FR [INSERT FR PAGE NUMBER], November 13, 2019. Presumption of denial.
| * * * * * *
| Techlink Communications, 111B Block No. 2, Mezzanine Floor, Khalid bin Waleed Road, P.E.C.H.S., Karachi, Pakistan. | For all items subject to the EAR. (See § 744.11 of the EAR). | Presumption of denial | 83 FR 44824, 9/4/18. 83 FR [INSERT FR PAGE NUMBER], November 13, 2019.
| Techlinks, Suite 3, 2nd Floor, Kashmir Center, 632/G-1 Market Johar Town, Lahore, Pakistan. | For all items subject to the EAR. (See § 744.11 of the EAR). | Presumption of denial | 83 FR 44824, 9/4/18. 84 FR [INSERT FR PAGE NUMBER], November 13, 2019.
* * * * * * *
SAUDI ARABIA | Safe Technical Supply Co., LLC, a.k.a., the following three aliases: —Safe Technical Equipment Services LLC; —Safe Technical; and —SafeTech. Ad Dakhal Mahdud Subdivision, PO Box 30305, Jubail 31951, Saudi Arabia. (See also addresses under Oman and the United Arab Emirates). | For all items subject to the EAR. (See § 744.11 of the EAR). | Presumption of denial | 84 FR [INSERT FR PAGE NUMBER], November 13, 2019.
* * * * * * *
SENEGAL | Dart Aviation, a.k.a., the following four aliases: —Dart Aviation Technics; —Dart Aviation Marlbrine S.A.R.L.; —MBP Trading Ltd.; and —SARL IEAS. CID Aéroport International Léopold Sedar Senghor Dakar Yoff Senegal. (See also addresses under France, Iran and the United Kingdom). | For all items subject to the EAR. (See § 744.11 of the EAR). | Presumption of denial | 84 FR [INSERT FR PAGE NUMBER], November 13, 2019.
* * * * * * *
SYRIA | * * * * * *
| EDO-ELEMED, a.k.a., the following two aliases: —EDO ELEMED; and —EDO/ELEMED. 16 Parliament Street—Salhieh, Diab Building, Damascus, Syria; and P.O. Box 8126 Damascus Syria. (See also addresses under Lebanon). | For all items subject to the EAR. (See § 744.11 of the EAR). | Presumption of denial | 84 FR [INSERT FR PAGE NUMBER], November 13, 2019.
| * * * * * *
| Elemed Liban, 16 Parliament Street—Salhieh, Diab Building, Damascus, Syria; and P.O. Box 8126 Damascus Syria. (See also address under Lebanon). | For all items subject to the EAR. (See § 744.11 of the EAR). | Presumption of denial | 84 FR [INSERT FR PAGE NUMBER], November 13, 2019.
| * * * * * *
| Rahal Corporation for Technology and Medical Supplies, 16 Parliament Street—Salhieh, Diab Building, Damascus, Syria; and P.O. Box 8126 Damascus Syria. (See also address under Lebanon) | For all items subject to the EAR. (See § 744.11 of the EAR). | Presumption of denial | 84 FR [INSERT FR PAGE NUMBER], November 13, 2019.
| Rahal Establishment, 16 Parliament Street—Salhieh, Diab Building, Damascus, Syria; and P.O. Box 8126 Damascus Syria. (See also address under Lebanon) | For all items subject to the EAR. (See § 744.11 of the EAR). | Presumption of denial | 84 FR [INSERT FR PAGE NUMBER], November 13, 2019.
* * * * * * *
TURKEY | * * * * * *
| Eslem Global Pazarlama Sanayi ve Ticaret, PO Box 34122, Sultanahmet, Fetih, Istanbul, Turkey; and Divanyolu Caddesi No: 15/408 Sultanahmet Fatih Istanbul, Turkey. | For all items subject to the EAR. (See § 744.11 of the EAR). | Presumption of denial | 84 FR [INSERT FR PAGE NUMBER], November 13, 2019.
| * * * * * *
| Mehmet Yari, P.O. Box 34122, Sultanahmet, Fetih, Istanbul, Turkey. | For all items subject to the EAR. (See § 744.11 of the EAR). | Presumption of denial | 84 FR [INSERT FR PAGE NUMBER], November 13, 2019.
* * * * * * *
UNITED ARAB EMIRATES | * * * * * *
| Abdullah Poor Nagar, P.O. Box 64705, Number 20, Al Ras Street, The Gold Sough, Diera, Dubai, U.A.E. | For all items subject to the EAR. (See § 744.11 of the EAR). | Presumption of denial | 84 FR [INSERT FR PAGE NUMBER], November 13, 2019.
| * * * * * *
| Al Ras Gate General Trading, P.O. Box 64705, Number 20, Al Ras Street, The Gold Sough, Diera, Dubai, U.A.E. | For all items subject to the EAR. (See § 744.11 of the EAR). | Presumption of denial | 84 FR [INSERT FR PAGE NUMBER], November 13, 2019.
| * * * * * *
| Bestway Line FZCO, TPOFCB-06WS10, Jebal Ali Free Zone, Dubai, U.A.E. | For all items subject to the EAR. (See § 744.11 of the EAR). | Presumption of denial | 84 FR [INSERT FR PAGE NUMBER], November 13, 2019.
| * * * * * *
| Khaled Al Taher, TPOFCB-06WS10, Jebal Ali Free Zone, Dubai, U.A.E. | For all items subject to the EAR. (See § 744.11 of the EAR). | Presumption of denial | 84 FR [INSERT FR PAGE NUMBER], November 13, 2019.
| * * * * * *
| Mohammed Marzoghi, TPOFCB-06WS10, Jebal Ali Free Zone, Dubai, U.A.E.; and C21 Gate No 4, Ajman, U.A.E. (see also address under Bahrain). | For all items subject to the EAR. (See § 744.11 of the EAR). | Presumption of denial | 84 FR [INSERT FR PAGE NUMBER].
| * * * * * *
| Safe Technical Supply Co., LLC, a.k.a., the following three aliases: —Safe Technical Equipment Services LLC; —Safe Technical; and —SafeTech. Showroom No. 6, Jadaf Ship Docking Yard, Gate No. 1, Al Khail Road, P.O. Box 4832, Dubai, U.A.E.; and Shed No: 138-A, Dubai Maritime City, Dubai, U.A.E.; and Office No. 3, Mezzanine Floor, Saleh Al Menhali Bldg., Mohammed bin Zayed City, PO Box 30560, Abu Dhabi, U.A.E. (See also addresses under Oman and Saudi Arabia). | For all items subject to the EAR. (See § 744.11 of the EAR). | Presumption of denial | 84 FR [INSERT FR PAGE NUMBER], November 13, 2019].
* * * * * * *
UNITED KINGDOM | * * * * * *
| Dart Aviation, a.k.a., the following four aliases: —Dart Aviation Technics; —Dart Aviation Marlbrine S.A.R.L.; —MBP Trading Ltd.; and —Sari IEAS. Unit 7 Minton Distribution Park, London Road, Amesbury SP4 7RT Wiltshire, London, United Kingdom; and Martlet House E1, Yeoman Gate Yeoman Way Worthing West Sussex BN13 3QZ. (See also addresses under France, Iran and Senegal). | For all items subject to the EAR. (See § 744.11 of the EAR). | Presumption of denial | 84 FR [INSERT FR PAGE NUMBER], November 13, 2019.
| * * * * * *

Dated: November 6, 2019.
Richard E. Ashooh,
Assistant Secretary for Export Administration.

[FR Doc. 2019-24635 Filed 11-12-19; 8:45 am]

BILLING CODE 3510-33-P